DEPARTMENT OF TRANSPORTATION

Pipeline and Hazardous Materials Safety Administration

[Docket No. PHMSA-2016-0060, Notice No. 2016-7]

International Standards on the Transport of Dangerous Goods

AGENCY: Pipeline and Hazardous Materials Safety Administration (PHMSA), DOT.

ACTION: Notice of public meetings.

SUMMARY: This notice is to advise interested persons that on Tuesday, June 14, 2016, the Department of Transportation (DOT) and the Pipeline and Hazardous Materials Safety Administration (PHMSA) will conduct a public meeting in preparation for the 49th session of the United Nations Sub-Committee of Experts on the Transport of Dangerous Goods (UN SCOE TDG). The UN SCOE TDG meeting will be held July 27 to July 6, 2016, in Geneva, Switzerland. PHMSA is soliciting comments about potential new work items, which may be considered for inclusion in its international agenda and feedback on issues that PHMSA may put forward for consideration by the Sub-Committee. (See the SUPPLEMENTARY INFORMATION section below for a list of potential UN SCOE TDG meeting topics.)

Also on Tuesday, June 14, 2016, the Occupational Safety and Health Administration (OSHA) will conduct a public meeting (Docket No. OSHA-2016-0005) to discuss proposals in preparation for the 31st session of the United Nations Sub-Committee of Experts on the Globally Harmonized System of Classification and Labelling of Chemicals (UNSCEGHS), to be held July 5 to 8, 2016, in Geneva, Switzerland.

Time and Location: Both the PHMSA and the OSHA public meetings will take place on Tuesday, June 14, 2016, at the DOT Headquarters, which is located at 1200 New Jersey Avenue SE, Washington, DC 20590-0001. PHMSA will host its public meeting between 9:00 am to 12:00 p.m. EST in Conference Room 4 in DOT Headquarters, West Building.

Then, OSHA will host its public meeting between 1:00 p.m. to 4:00 p.m. EST in Conference Room 4 in DOT Headquarters, West Building.

Advanced Meeting Registration: The DOT requests that attendees pre-register for these meetings by completing the form at https://www.surveymonkey.com/r/Q3Z53PT. Attendees may use the same form to pre-register for both the PHMSA and the OSHA meetings. Failure to pre-register may delay your access into the DOT Headquarters building. Additionally, if you are attending in-person, arrive early to allow time for security checks necessary to access the building.

Conference call-in and “live meeting” capability will be provided for both meetings. Specific information on call-in and live meeting access will be posted when available at http://www.phmsa.dot.gov/hazmat/regs/international under “Upcoming Events” and at http://www.osha.gov/dsg/hazcom/.

FOR FURTHER INFORMATION CONTACT: Steven Webb or Aaron Wiener, Office of Hazardous Materials Safety, Department of Transportation, Washington, DC 20590. Phone number: (202) 366-8553.

Supplementary Information on the PHMSA Meeting: Following the 49th session of the UN SCOE TDG, a copy of the Sub-Committee's report will be available at the United Nations Transport Division's Web site at http://www.unece.org/trans/main/dgdb/dgsubc3/c3rep.html. PHMSA's Web site at http://www.phmsa.dot.gov/hazmat/regs/international provides additional information regarding the UN SCOE TDG and related matters.

The primary purpose of PHMSA's meeting will be to prepare for the 49th session of the UN SCOE TDG. The 49th session of the UN SCOE TDG is the third of four meetings scheduled for the 2015-2016 biennium. The UN SCOE TDG may also use the information it gathers at the 49th session to use in the 20th Revised Edition of the United Nations Recommendations on the Transport of Dangerous Goods Model Regulations, which may be implemented into relevant domestic, regional, and international regulations from January 1, 2019.

Copies of working documents, informal documents, and the meeting agenda may be obtained from the United Nations Transport Division's Web site at http://www.unece.org/trans/main/dgdb/dgsubc3/c3age.html.

General topics on the agenda for the UNSCOE TDG meeting include:

• Explosives and related matters;

• Listing, classification, and packing;

• Electric storage systems;

• Transport of gases;

• Global harmonization of transport of dangerous goods regulations with the Model Regulations;

• Guiding principles for the Model Regulations;

• Cooperation with the International Atomic Energy Agency (IAEA);

• New proposals for amendments to the Model Regulations;

• Issues relating to the Globally Harmonized System of Classification and Labeling of Chemicals (GHS); and

• Miscellaneous pending issues.

Supplementary Information on the OSHA Meeting: The Federal Register notice and additional detailed information relating to OSHA's public meeting will be available upon publication at http://www.regulations.gov (Docket No. OSHA-2016-0005) and on the OSHA Web site at http://www.osha.gov/dsg/hazcom/.

Signed at Washington, DC, on May 24, 2016.
William Schoonover,
Acting Associate Administrator for Hazardous Materials Safety.

[FR Doc. 2016-12677 Filed 5-27-16; 8:45 am]

BILLING CODE 4910-60-P